DEPARTMENT OF JUSTICE

Drug Enforcement Administration

28 CFR Part 16

[AAG/A Order No. 009-2003]

Privacy Act of 1974; Implementation

AGENCY: Department of Justice, Drug Enforcement Administration.

ACTION: Final rule.

SUMMARY: The Department of Justice is exempting a Privacy Act system of records entitled “Clandestine Laboratory Seizure System (CLSS), Justice/DEA-002,” from subsections (c)(3) and (4); (d)(1), (2), (3) and (4); (e)(1), (2) and (3), (e)(5), and (e)(8); and (g) of the Privacy Act of 1974.

EFFECTIVE DATE: This final rule is effective March 24, 2003.

FOR FURTHER INFORMATION CONTACT: Mary Cahill (202) 307-1823.

SUPPLEMENTARY INFORMATION: The exemptions will be applied only to the extent that information in a record is subject to an exemption pursuant to 5 U.S.C. 552a(j) and (k).

On January 27, 2003 (68 FR 3847), a proposed rule was published in the Federal Register with an invitation to comment. No comments were received.

This order relates to individuals rather than small business entities. Nevertheless, pursuant to the requirements of the Regulatory Flexibility Act, 5 U.S. C. 601-612, this order will not have a significant economic impact on a substantial number of small entities.

List of Subjects in 28 CFR Part 16

Administrative practices and procedures, Courts, Freedom of Information Act, and Privacy.

Pursuant to the authority vested in the Attorney General by 5 U.S.C. 552a and delegated to me by Attorney General Order No. 793-78, 28 CFR part 16 is amended as follows:

PART 16—[AMENDED]

Subpart E—Exemption of Records Systems under the Privacy Act

1. The authority for part 16 continues to read as follows:

Authority: 5 U.S.C. 301, 552, 552a, 552b(g), and 553; 18 U.S.C. 4203(a)(1); 28 U.S.C. 509, 510, and 534; 31 U.S. C. 3717 and 9701.

2. Section 16.98 is amended as follows:

(a) By revising paragraph (c)

(b) By revising the first sentence of paragraph (d)

(c) By removing paragraphs (g) and (h).

The revisions read as follows:

§ 16.98 Exemption of the Drug Enforcement Administration (DEA)—limited access.

* * * * *

(c) Systems of records identified in paragraphs (c)(1) through (c)(7) below are exempted pursuant to the provisions of 5 U.S.C. 552a (j)(2) from subsections (c)(3) and (4); (d)(1), (2). (3) and (4); (e)(1), (2) and (3), (e)(5), (e)(8); and (g) of 5 U.S.C. 552a. In addition, systems of records identified in paragraphs (c)(1), (c)(2), (c)(3), (c)(4), (c)(5), and (c)(6) below are also exempted pursuant to the provisions of 5 U.S.C. 552a (k)(1) from subsections (c)(3); (d)(1), (2), (3) and (4); and (e)(1):

(1) Air Intelligence Program (Justice/DEA-001)

(2) Clandestine Laboratory Seizure System (CLSS) (Justice/DEA-002)

(3) Investigative Reporting and Filing System (Justice/DEA-008)

(4) Planning and Inspection Division Records (Justice/DEA-010)

(5) Operation Files (Justice/DEA-011)

(6) Security Files (Justice/DEA-013)

(7) System to Retrieve Information from Drug Evidence (STRIDE/Ballistics) (Justice/DEA-014)

(d) Exemptions apply to the following systems of records only to the extent that information in the systems is subject to exemption pursuant to 5 U.S.C. 552a (j)(2), (k)(1), and (k)(2): Air Intelligence Program (Justice/DEA-001); Clandestine Laboratory Seizure System (CLSS) (Justice/DEA-002); Planning and Inspection Division Records (Justice/DEA-010); and Security Files (Justice/DEA-013). * * *

* * * * *

Dated: March 14, 2003.
Paul R. Corts,
Assistant Attorney General for Administration.

[FR Doc. 03-6925 Filed 3-21-03; 8:45 am]

BILLING CODE 4410-09-P